DEPARTMENT OF TRANSPORTATION

Federal Motor Carrier Safety Administration

[Docket No. FMCSA-2024-0125]

Commercial Driver's License; 3 North LLC; Application for Exemption

AGENCY: Federal Motor Carrier Safety Administration (FMCSA), Department of Transportation (DOT).

ACTION: Notice of final disposition; denial of application for exemption.

SUMMARY: FMCSA announces its decision to deny 3 North LLC's request for a 5-year exemption to enable 3 of its commercial driver's license (CDL) holders under the age of 21, with a “K” restriction for intrastate-only operations, to drive commercial motor vehicles (CMVs) in intrastate operations in a State other than their State of domicile. FMCSA analyzed the application and public comments and determined that the exemption would not likely achieve a level of safety that is equivalent to, or greater than, the level that would be achieved absent such exemption.

FOR FURTHER INFORMATION CONTACT: Ms. Bernadette Walker, FMCSA Driver and Carrier Operations Division; Office of Carrier, Driver and Vehicle Safety Standards, FMCSA; (202) 385-2415; bernadette.walker@dot.gov. If you have questions on viewing or submitting material to the docket, contact Dockets Services, (202) 366-9826.

SUPPLEMENTARY INFORMATION:

I. Public Participation

Viewing Comments and Documents

To view comments, go to www.regulations.gov, insert the docket number “FMCSA-2024-0125” in the keyword box, and click “Search.” Next, sort the results by “Posted (Newer-Older),” choose the first notice listed, click “Browse Comments.”

To view documents mentioned in this notice as being available in thein the docket, go to www.regulations.gov, insert docket number “FMCSA-2024-0125” in the keyword box, click “Search,” and choose the document to review.

If you do not have access to the internet, you may view the docket by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the safety analyses submitted by the applicant.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision(s) from which the applicant will be exempt, the effective period, and all terms and conditions of the exemption (49 CFR 381.315(c)(1)). If the exemption is denied, the notice will explain the reason for the denial (49 CFR 381.315(c)(2)). If granted, the exemption may be renewed (49 CFR 381.300(b)).

III. Background

Current Regulation(s)/Requirements

Drivers of CMVs, as defined in 390.5T, operating in interstate commerce, must be at least 21 years of age (§ 391.11(b)(1)). CDL holders who are younger than age 21 may drive in intrastate commerce only in the driver's State of domicile. FMCSA's CDL regulations in 49 CFR 383.153(a)(10)(vii) require that CDLs issued to drivers limited to intrastate commerce be marked with a “K” restriction.

Applicant's Request

3 North LLC's application for an exemption was described in detail in the Federal Register published on June 11, 2024 (89 FR 49263) and will not be repeated here as the facts have not changed.

IV. Public Comments

In the Federal Register Notice announcing the receipt of 3 North LLC's application, FMCSA requested public comments by July 11. FMCSA subsequently extended the comment period until July 25, 2024 (89 FR 56473) because the exemption application was not available for public review in the docket until June 24, 2024.

The Agency received six comments, one supporting the application, three opposing, and two neither supporting nor opposing it. The Hooper Cooperation stated in support, “There are many exceptions in the FMCSRs that attempt to balance the need for public safety with the common value of the service being performed by the CMV driver, including one relieving hours of service requirements for utility service vehicles. One would think similar consideration could be made for the `K' restricted CDL holder provided they operate only in a route-defined intrastate capacity when working on projects outside of their home state.”

Three commenters opposed the exemption. The Truck Safety Coalition, Citizens for Reliable and Safe Highways, and Parents Against Tired Truckers jointly stated, “This exemption request is unsafe and defies all available evidence for teen driving safety.” They said about the applicant's request, “No data is cited regarding the vehicle density of the alleged remote roads. No reason is given why the company cannot simply hire drivers with a CDL age 21 or older. No additional precautions are proposed for these under-21 drivers to minimize risk to themselves or others on the road or at the job site. No effort is made to ensure they achieve an equivalent or greater level of safety with a high-risk cohort of drivers.” The American Association of Motor Vehicle Administrators (AAMVA) stated that States use the intrastate in a variety of different circumstances, commenting, “the application of the K restriction as limited to intrastate operations is specifically meant to ensure that the driver, who has not met federal regulatory obligations, is prevented from moving to another jurisdiction and exchanging a restricted driver's license for another restricted license. If the license transfer process does not include a reason for issuance, drivers may now be allowed to operate in environments for which they may not be qualified.” AWM Associates, LLC stated, “FMCSA should not be interfering with state laws regarding transfer of CDLs.”

Dennis Murphy made the following suggestion: “3 North LLC could accomplish its goals of having 18-20-year-old CDL holders operate in another State by enrolling in the Safe Driver Apprenticeship Program without requiring any exemptions. This would ensure that the 18-20-year-old CDL holders who are operating in another State than they hold a license in are held to the same standards as any other 18-20-year-old CDL holder who wishes to operate in a different state than they hold a license in.” CL, an individual, stated, “If an exemption is granted, the exempted individuals should be required to obtain a medical certificate. This exemption must be tied to the three (3) individuals and should not be transferable once those individuals turn 21.”

V. FMCSA Safety Analysis and Decision

FMCSA evaluated 3 North LLC's application and the public comments and denies the exemption request. Based on the information provided by the applicant and commenters, the Agency is unable to determine that the applicant would likely achieve a level of safety equivalent to, or greater than, the level obtained by complying with the regulation. FMCSA agrees with AAMVA that allowing drivers with a “K” restriction to operate in States other than their State of domicile could disrupt and confuse each State's use of the “K” restriction and could allow drivers to operate in environments for which they may not be qualified. Accordingly, the Agency would need persuasive evidence that such operations would likely achieve an equivalent level of safety before interfering with the “K” restriction. Furthermore, FMCSA agrees that the more appropriate path for motor carriers interested in using individuals under the age of 21 is the Agency's Safe Driver Apprenticeship Program (https://www.fmcsa.dot.gov/sdap).

For the reasons stated above, 3 North LLC's exemption application is denied.

Vincent G. White,
Deputy Administrator.

[FR Doc. 2024-28850 Filed 12-6-24; 8:45 am]

BILLING CODE 4910-EX-P